OVERSEAS PRIVATE INVESTMENT CORPORATION

Sunshine Act Meetings

Meeting Cancellation Notice—OPIC's March 11, 2015 Annual Public Hearing

OPIC's Sunshine Act notice of its Annual Public Hearing was published in the Federal Register (Volume 80, Number 14, Page 3265) on January 22, 2015. No requests were received to provide testimony or submit written statements for the record; therefore, OPIC's Annual Public Hearing scheduled for 2 p.m., March 11, 2015 has been cancelled.

CONTACT PERSON FOR INFORMATION: Information on the hearing cancellation may be obtained from Connie M. Downs at (202) 336-8438, or via email at Connie.Downs@opic.gov.

Dated: March 2, 2015.
Connie M. Downs,
OPIC Corporate Secretary.

[FR Doc. 2015-05082 Filed 3-3-15; 11:15 am]

BILLING CODE 3210-01-P